DEPARTMENT OF THE INTERIOR

National Park Service

Notice of Inventory Completion: U.S. Department of the Interior, National Park Service, Carlsbad Caverns National Park, Carlsbad, NM

AGENCY: National Park Service, Interior.

ACTION: Notice.

Notice is here given in accordance with the Native American Graves Protection and Repatriation Act (NAGPRA), 25 U.S.C. 3003, of the completion of an inventory of human remains in the possession of the U.S. Department of the Interior, National Park Service, Carlsbad Caverns National Park, Carlsbad, NM. The human remains were removed from locations near the entrance to Carlsbad Cavern in Eddy County, NM.

This notice is published as part of the National Park Service's administrative responsibilities under NAGPRA, 25 U.S.C. 3003. The determinations within this notice are the sole responsibility of the museum, institution, or Federal agency that has control of the Native American human remains.

A detailed assessment of the human remains was made by Carlsbad Caverns National Park professional staff in consultation with representatives of the Apache Tribe of Oklahoma; Comanche Nation, Oklahoma; Fort Sill Apache Tribe of Oklahoma; Hopi Tribe of Arizona; Jicarilla Apache Nation, New Mexico; Kiowa Indian Tribe of Oklahoma; Mescalero Apache Tribe of the Mescalero Reservation, New Mexico; Pueblo of Zia, New Mexico; San Carlos Apache Tribe of the San Carlos Reservation, Arizona; White Mountain Apache Tribe of the Fort Apache Reservation, Arizona; Ysleta del Sur Pueblo of Texas; and Zuni Tribe of the Zuni Reservation, New Mexico.

In 1928, human remains representing a minimum of one individual were removed by National Park Service staff under unknown circumstances and without scientific documentation from an unspecified location near the entrance to Carlsbad Cavern in Eddy County, NM. No known individual was identified. No associated funerary objects are present.

In 1949 and 1951, human remains representing a minimum of two individuals were recovered by National Park Service staff under unknown circumstances and without scientific documentation from another unspecified location near the entrance to Carlsbad Cavern in Eddy County, NM. No known individuals were identified. No associated funerary objects are present.

Archeological investigation in the immediate vicinity of the entrance to Carlsbad Cavern has been limited. Several ring middens are located within 250 meters of the two sites. One of the ring middens was tested in 1994 and yielded brownware sherds, triangular-type projectile points, and radiocarbon dates of A.D. 960-1410. Pictographs near the discovery site have been attributed to several time periods, including the Archaic, and to several cultural groups, including Jumano and Apache.

Officials of Carlsbad Caverns National Park have determined that, pursuant to 25 U.S.C. 3001 (9-10), the human remains described above represent the physical remains of three individuals of Native American ancestry. Officials of Carlsbad Caverns National Park also have determined that the human remains described in this notice cannot be affiliated with an Indian tribe according to the definition of cultural affiliation at 25 U.S.C. 3001 (2), and are considered culturally unidentifiable.

According to the Native American Graves Protection and Repatriation Review Committee's charter, the Review Committee is responsible for recommending specific actions for disposition of culturally unidentifiable human remains. In December 1998, Carlsbad Caverns National Park requested that the Review Committee recommend repatriation of the three culturally unidentifiable human remains to a group of 12 Indian tribes that had requested the human remains and that demonstrated a cultural relationship to the region. The Review Committee considered the proposal at its December 1998 meeting in Santa Fe, NM, and recommended repatriation of the human remains to the 12 Indian tribes. A May 25, 1999, letter from the Departmental Consulting Archeologist on behalf of the chair of the Review Committee to the superintendent of Carlsbad Caverns National Park summarized the Review Committee's consideration of the park's request and transmitted the Review Committee's recommendation that the park repatriate the human remains to the group of 12 Indian tribes.

Representatives of any other Indian tribe that believes itself to be culturally affiliated with the human remains should contact Mary Gibson Scott, Superintendent, Carlsbad Caverns National Park, 3225 National Parks Highway, Carlsbad, NM 88220, telephone (505) 785-3020, before February 5, 2004. Repatriation of the human remains to the Apache Tribe of Oklahoma; Comanche Nation, Oklahoma; Fort Sill Apache Tribe of Oklahoma; Hopi Tribe of Arizona; Jicarilla Apache Nation, New Mexico; Kiowa Indian Tribe of Oklahoma; Mescalero Apache Tribe of the Mescalero Reservation, New Mexico; Pueblo of Zia, New Mexico; San Carlos Apache Tribe of the San Carlos Reservation, Arizona; White Mountain Apache Tribe of the Fort Apache Reservation, Arizona; Ysleta del Sur Pueblo of Texas; and Zuni Tribe of the Zuni Reservation, New Mexico may proceed after that date if no additional claimants come forward.

Carlsbad Caverns National Park is responsible for notifying the Apache Tribe of Oklahoma; Comanche Nation, Oklahoma; Fort Sill Apache Tribe of Oklahoma; Hopi Tribe of Arizona; Jicarilla Apache Nation, New Mexico; Kiowa Indian Tribe of Oklahoma; Mescalero Apache Tribe of the Mescalero Reservation, New Mexico; Pueblo of Zia, New Mexico; San Carlos Apache Tribe of the San Carlos Reservation, Arizona; White Mountain Apache Tribe of the Fort Apache Reservation, Arizona; Ysleta del Sur Pueblo of Texas; and Zuni Tribe of the Zuni Reservation, New Mexico that this notice has been published.

Dated: October 27, 2003.
John Robbins,
Assistant Director, Cultural Resources.

[FR Doc. 04-146 Filed 1-5-04; 8:45 am]

BILLING CODE 4310-50-S